DEPARTMENT OF COMMERCE

National Oceanic and Atmospheric Administration

RIN 0648-XC592

Endangered and Threatened Species; Take of Anadromous Fish

AGENCY: National Marine Fisheries Service (NMFS), National Oceanic and Atmospheric Administration (NOAA), Commerce.

ACTION: Receipt of three permit applications for scientific research and enhancement.

SUMMARY: Notice is hereby given that NMFS has received three scientific research and enhancement permit applications relating to anadromous species listed under the Endangered Species Act (ESA). The proposed research activities are intended to increase knowledge of the species and to help guide management and conservation efforts. These documents are also available upon written request or by appointment by contacting NMFS by phone (916) 930-3706 or fax (916) 930-3629.

DATES: Written comments on the permit applications or modification request must be received at the appropriate address or fax number (see ADDRESSES) no later than 5 p.m. Pacific standard time on April 29, 2013.

ADDRESSES: The applications and related documents may be viewed online at: https://apps.nmfs.noaa.gov/preview/preview_open_for_comment.cfm. Written comments on the applications or modification request should be submitted to the Protected Resources Division, NMFS, 650 Capitol Mall, Room 5-100, Sacramento, CA 95814. Comments may also be submitted via fax to (916) 930-3629 or by email to FRNpermits.sac@noaa.gov.

FOR FURTHER INFORMATION CONTACT: Amanda Cranford, Sacramento, CA (ph.: 916-930-3706, email.: Amanda.Cranford@noaa.gov).

SUPPLEMENTARY INFORMATION:

Species Covered in This Notice

This notice is relevant to federally threatened California Central Valley steelhead (Oncorhynchus mykiss), threatened Central Valley spring-run Chinook salmon (O. tshawytscha), endangered Sacramento River winter-run Chinook salmon (O. tshawytscha), and the threatened southern distinct population segment of North American (SDPS) green sturgeon (Acipenser medirostris).

Authority

Scientific research permits are issued in accordance with section 10(a)(1)(A) of the ESA of 1973 (16 U.S.C. 1531-1543) and regulations governing listed fish and wildlife permits (50 CFR parts 222-226). NMFS issues permits based on findings that such permits: (1) Are applied for in good faith; (2) if granted and exercised, would not operate to the disadvantage of the listed species which are the subject of the permits; and (3) are consistent with the purposes and policies set forth in section 2 of the ESA. The authority to take listed species is subject to conditions set forth in the permits.

Anyone requesting a hearing on the permit applications listed in this notice should set out the specific reasons why a hearing on the application(s) would be appropriate (see ADDRESSES). Such hearings are held at the discretion of the Assistant Administrator for Fisheries, NMFS.

Applications Received

Permit 17551

The California Department of Fish and Wildlife, Region II (CDFW) is requesting a 5-year scientific research and enhancement permit to take juvenile SDPS green sturgeon associated with research activities in the Central Valley, California. Incidental mortality of SDPS green sturgeon is not expected to occur and therefore none is requested for Permit 17551. The overall goal of this project is to increase knowledge with regards to the behavior of young of the year and yearling SDPS green sturgeon from the Sacramento River and their presumed nursery grounds of the Sacramento-San Joaquin Delta and subsequently the ocean staging habitat of San Francisco Bay. There is virtually no information on size, age, or potential environmental cues contributing to movements to and between these two unique habitats. Information on timing, survival, and transition rates through the bay and Delta region are necessary for understanding potential risks to juvenile green sturgeon. The study proposed for Permit 17551 will be a collaborative effort between the University of California Davis Biotelemetry Laboratory and CDFW. Objectives are to: (1) Develop capture methods for monitoring of juvenile green and white sturgeon in the lower Sacramento River and Sacramento-San Joaquin Delta, (2) describe spatial and temporal movements during emigration from the lower Sacramento River to the tidally influenced reaches of the upper Delta, (3) assess the seasonal migration and survival through engineered flood plains (Yolo Bypass) and (4) describe spatial and temporal use of the Sacramento-San Joaquin Delta and behavior and emigration timing to San Francisco Bay. CDFW is proposing to capture (tangle nets, modified fyke nets), measure, weigh and acoustically tag up to 100 juvenile green sturgeon per year.

Permit 17918

FISHBIO Environmental is requesting a 5-year scientific research and enhancement permit to take adult and juvenile CCV steelhead, associated with research activities in the Tuolumne River from the Hickman Bridge (river mile [RM] 31.5) downstream to the confluence with the San Joaquin River (RM 0), in the Central Valley of California. Specific information obtained by this study will update and supplement information from prior studies in order to: (1) Estimate relative abundance of predator fish species such as largemouth bass (Micropterus salmoides), smallmouth bass (M. dolomieu), Sacramento pikeminnow (Ptychocheilus grandis), and striped bass (Morone saxatilis), (2) update estimates of predation rate from previous surveys. Incidental mortality of CCV steelhead is not expected to occur and therefore none is requested for Permit 17918.

Predator Abundance will be estimated using boat electrofishing in select special run-pools, run-pools, and riffles. As the majority of predators in the lower Tuolumne River are non-native and are most abundant downstream of approximately RM 31, predation study sites will be concentrated in this downstream reach. Focusing effort in this reach and conducting sampling during the summer months (July-September) are measures designed to minimize the potential to encounter Chinook salmon and CCV steelhead. Multiple pass electrofishing will be conducted at night when catch per unit effort is typically highest and would be used to target territorial species such as largemouth and smallmouth bass that do not range far from their home territory. Predators captured using electrofishing will be identified to species, measured and weighed, then released near the location of capture.

Predation Rate will be estimated by electrofishing at selected sites during two different timeframes, the first of which will occur February through March and the second April though May. Limiting sampling to locations downstream of RM 31.5 is a measure designed to avoid CCV steelhead spawning which may be occurring in the upstream reach during this timeframe. The predation rate task is designed to collect data on predation rate by fish within specific habitat types during the Chinook salmon rearing and outmigration period. Stomach contents will be examined to determine the rate of predation on juvenile salmon. Approximately twelve study sites will be selected from slow-water habitat locations (pools) and fast-water habitats (primarily runs), which provide preferred habitat for largemouth bass and smallmouth bass, respectively. Two survey events will be conducted, approximately one-month apart during the Chinook salmon outmigration period with the goal of documenting the magnitude of predation on juvenile Chinook salmon. Sampling will be conducted by a boat crew sampling at night, when feeding activity is generally at its peak. The sampling goal for each study site will be to capture 5-10 individuals of each species present for stomach content analysis.

Permit 17913

Stillwater Sciences is requesting a 5-year scientific research and enhancement permit to take adult and juvenile CCV steelhead, associated with research activities in the Tuolumne River between RM 52.5 and RM 0, and on the San Joaquin River between RM 79 (Gardner Cove) and RM 90 (Laird Park), in the Central Valley, California. Permit 17913 is for two studies to be carried out by Stillwater Sciences.

The Tuolumne River fisheries monitoring project will evaluate and measure ESA-listed salmonid and non-listed fish species distribution, population abundance, habitat utilization, and habitat quality in the lower Tuolumne River in Stanislaus County, California. This project will monitor the effects of water diversion facilities maintained by the Turlock and Modesto Irrigation Districts on ESA-listed salmonids and non-listed fish species and the effects of past and ongoing habitat restoration actions to provide information and guide future habitat restoration and management actions within the Tuolumne River watershed. This study includes observational snorkel surveys as well as direct collection and handling of juvenile fall-run Chinook salmon and CCV steelhead using beach seine methods. Any captured juvenile CCV steelhead will be handled (anesthetized and measured for length and weight), placed in an aerated bucket to recover, and released.

The Tuolumne River O. mykiss temperature adaptation assessment project will examine temperature tolerances of juvenile salmonid life stages that inhabit the lower Tuolumne River. Fish collected for this project may potentially include ESA-listed CCV steelhead. Up to 50 juvenile O. mykiss will be collected from the Tuolumne River during summer months (June-September) of each year using beach seine methods between La Grange powerhouse (RM 52.2) and Roberts Ferry Bridge (RM 39.5). Individual test fish will be placed in Brett swim tubes and tested for physiological performance, measuring both a routine, or resting (minimum) respiratory rate and a swimming (maximum) respiratory rate at a single test temperature. Test fish would be allowed to fully recover prior to release to the lower Tuolumne River.

Dated: March 25, 2013.
Angela Somma,
Chief, Endangered Species Division, Office of Protected Resources, National Marine Fisheries Service.

[FR Doc. 2013-07226 Filed 3-27-13; 8:45 am]

BILLING CODE 3510-22-P